DEPARTMENT OF ENERGY

Office of Energy Efficiency and Renewable Energy

10 CFR Part 430

[Docket Nos. EE-RM/TP-02-002; EE-RM/STD-02-330]

Energy Conservation Program for Consumer Products: Test Procedure for Residential Central Air Conditioners and Heat Pumps; Energy Conservation Standards for Small Duct High Velocity Air Conditioners and Heat Pumps

AGENCY: Office of Energy Efficiency and Renewable Energy, Department of Energy.

ACTION: Notice of public workshop.

SUMMARY: The Department of Energy (DOE or Department) is convening a public workshop to discuss and receive comments on several issues related to test procedures for residential central air conditioners and heat pumps and energy conservation standards for small-duct high-velocity (SDHV) central air conditioners and heat pumps.

DATES: The public workshop will be held on Friday, December 13, 2002, from 9 a.m. to 4 p.m. Comments submitted by electronic mail will be considered timely if they are submitted by 11:59 p.m. (Eastern time) January 8, 2003. Written comments, data and information, and a signed original with an electronic copy on diskette, must be received at the Department of Energy by January 8, 2003.

ADDRESSES: The workshop will be held at the U.S. Department of Energy, Forrestal Building, Room 1E-245, 1000 Independence Avenue SW., Washington, DC 20585. (Please note that foreign nationals visiting DOE Headquarters are subject to advance security screening procedures. If you are a foreign national and wish to participate in the workshop, please inform DOE of this fact as soon as possible by contacting Ms. Crystal Branson at (202) 586-6448 so that the necessary procedures can be completed.)

On or about November 15, 2002, DOE will place a set of presentations describing the Department's research on these issues and workshop agenda on the DOE Web site at: http://www.eren.doe.gov/buildings/codes_standards/. Please submit comments, data and information electronically. These should be sent to the following Internet address: CAC@ee.doe.gov. Electronic comments must be submitted as a WordPerfect 5.1/6.1/8 format file and avoid the use of special characters or any form of encryption. Comments in electronic format should also be identified by the docket number EE-RM/STD-02-330 (for SDHV comments), or EE-RM/TP-02-002 (for test procedure comments), and wherever possible carry the electronic signature of the author. Absent an electronic signature, comments submitted electronically must be followed and authenticated by submitting the signed original paper document. No telefacsimiles (telefaxes) will be accepted.

Written (paper) comments may be submitted to: Ms. Crystal Branson, U.S. Department of Energy, Office of Energy Efficiency and Renewable Energy, Energy Conservation Program for Consumer Products: Energy Conservation Standards and Test Procedures for Residential Central Air Conditioners and Heat Pumps, Docket Number: EE-RM/TP-02-002 (for test procedure comments); EE-RM/STD-02-330 (for SDHV comments), EE-2J, 1000 Independence Avenue, SW., Washington, DC 20585-0121. Telephone: (202) 586-6448. Please submit one signed copy and a computer diskette or CD (in WordPerfect™ 8 format)—no telefacsimiles.

Copies of the transcript of the public workshop, public comments received, and this notice may be read (or copied) at the Freedom of Information Reading Room, U.S. Department of Energy, Forrestal Building, Room 1E-190, 1000 Independence Avenue, SW., Washington, DC 20585, (202) 586-3142, between the hours of 9 a.m. and 4 p.m., Monday through Friday, except Federal holidays.

FOR FURTHER INFORMATION CONTACT: Mr. Michael Raymond, U.S. Department of Energy, Office of Energy Efficiency and Renewable Energy, EE-2J, 1000 Independence Avenue, SW., Washington, DC 20585-0121, (202) 586-9611, e-mail: michael.raymond@ee.doe.gov, or Mr. Michael W. Bowers, Esq., U.S. Department of Energy, Office of General Counsel, GC-72, 1000 Independence Avenue, SW., Washington, DC 20585, (202) 586-8140, e-mail: Mike.Bowers@hq.doe.gov.

SUPPLEMENTARY INFORMATION: Part B of Title III of the Energy Policy and Conservation Act of 1975 (EPCA or Act), Public Law 94-163, as amended by the National Energy Conservation Policy Act (NECPA), Public Law 95-619; the National Appliance Energy Conservation Act of 1987 (NAECA), Public Law 100-12; the National Appliance Energy Conservation Amendments of 1988 (NAECA 1988), Public Law 100-357; and the Energy Policy Act of 1992 (EPACT), Public Law 102-486, created the Energy Conservation Program for Consumer Products other than Automobiles. The consumer products subject to this program include residential central air conditioners and central air conditioning heat pumps. (42 U.S.C. 6295(d)).

The Department has been pursuing a rulemaking activity for the purpose of determining whether amended energy conservation standards for the niche central air conditioning products with small ducts and high velocities are justified. The Department also is developing additional revisions it intends to propose to the test procedures for residential central air conditioners and heat pumps. These revisions concern: (1) Establishing new default values for the cooling mode cyclic degradation coefficients; (2) increasing the minimum static pressure used in testing small duct high velocity systems; (3) testing of two-capacity heat pumps; and (4) acceptable verification units for the alternative rating method.

The workshop announced in today's notice is the next step in the rulemaking process for determining whether to amend the energy conservation standards for small-duct high-velocity air conditioners and heat pumps. In a notice of final rulemaking published on May 23, 2002 (67 FR 36368), DOE established amended energy conservation standards for all classes of residential central air conditioners and heat pumps except small-duct high-velocity systems. In that final rule, DOE created a separate product class for SDHV systems, but it deferred establishing amended standards pending completion of a new test procedure and the analysis needed to support new standards. The May 23, 2002, final rule defines “small duct high-velocity system” to mean a heating and cooling product that contains a blower and indoor coil combination that: (1) Is designed for, and produces, at least 1.2 inches of external static pressure when operated at the certified air volume rate of 220-350 CFM per rated ton of cooling; and (2) when applied in the field, uses high velocity room outlets generally greater than 1000 fpm which have less than 6.0 square inches of free area. (See revision to § 430.2 at 67 FR 36406). The workshop announced in today's notice is also being held to consider the additional revisions to DOE's test procedure for central air conditioners and heat pumps mentioned in the preceding paragraph of this notice.

A detailed agenda for this workshop is currently under development and as noted above, will be posted on the Department's Web site on or about November 15, 2002. The agenda items will include issues related to the engineering and life-cycle cost methodology used in the small-duct high-velocity standards rulemaking, and the methodology and data used to derive new default values for the cooling mode cyclic degradation coefficients. For each agenda item, the Department will make a presentation summarizing the current status and will initiate a discussion regarding the accuracy and completeness of data and analysis tools. During these discussions, the Department is particularly interested in receiving comments and views of interested parties and possible approaches to enhance the accuracy of the analysis tools and data. The Department encourages those who wish to participate in the workshop to make presentations that address these issues. If you would like to make a presentation during the workshop, please inform Ms. Branson at least two weeks before the date of the workshop and provide her with a copy of your written presentation material at least one week before the date of the workshop.

The meeting will be conducted in an informal, conference style. A court reporter will be present to record the minutes of the meeting. There shall be no discussion of proprietary information, costs or prices, market shares, or other commercial matters regulated by antitrust law. After the meeting and a period for written statements, the Department will begin collecting data and conducting the analyses discussed at the workshop.

If you would like to participate in the workshop, to receive workshop materials, or to be added to the DOE mailing list to receive future notices and information regarding distribution transformers, please contact Ms. Crystal Branson at (202) 586-6448.

Issued in Washington, DC, on October 22, 2002.
David K. Garman,
Assistant Secretary, Energy Efficiency and Renewable Energy.

[FR Doc. 02-27332 Filed 10-25-02; 8:45 am]

BILLING CODE 6450-01-P